ENVIRONMENTAL PROTECTION AGENCY

[OPP-00661; FRL-6589-2]

State FIFRA Issues Research and Evaluation Group (SFIREG) Water Quality/Pesticide Disposal Working Committee Meeting; Notice of Public Meeting

AGENCY: Environmental Protection Agency (EPA).

ACTION: Notice of public meeting.

SUMMARY: The State FIFRA Issues Research and Evaluation Group (SFIREG) Water Quality/Pesticide Disposal Working Committee will hold a 2-day meeting, beginning on June 12, 2000, and ending on June 13, 2000. This notice announces the location and times for the meeting and sets forth the tentative agenda topics.

DATES: The meeting will be held on Monday, June 12, 2000, from 8:30 a.m. to 5 p.m. and Tuesday, June 13, 2000, from 8:30 a.m. to noon.

ADDRESSES: The meeting will be held at Doubletree Hotel, 300 Army Navy Drive, Arlington—Crystal City, VA.

FOR FURTHER INFORMATION CONTACT: Philip H. Gray, SFIREG Executive Secretary, P.O. Box 1249, Hardwick, VT 05843-1249; telephone number: (802) 472-6956; fax: (802) 472-6957; e-mail address: aapco@plainfield.bypass.com or Georgia A. McDuffie, Field and External Affairs Division (7506C), Office of Pesticide Programs, Environmental Protection Agency, 1200 Pennsylvania Avenue, NW., Washington, DC 20405; telephone number: (703) 605-0195; fax number: (703) 308-1850; e-mail address: McDuffie.Georgia@epa.gov.

SUPPLEMENTARY INFORMATION:

I. Does this Action Apply to Me?

This action is directed to the public in general, but all parties interested in SFIREG's information exchange relationship with EPA regarding important issues related to human health, environmental exposure to pesticides, and insight into EPA's decision-making process are invited and encouraged to attend the meetings and participate as appropriate.

II. How Can I Get Additional Information, Including Copies of this Document and Other Related Documents?

1. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/. You may also obtain electronic copies of the minutes, and certain other related documents that might be available electronically from the Association of American Pesticide Control Officials (AAPCO) Internet Home Page at http://aapco.ceris.purdue.edu/doc/index.html. To access this document, on the Home Page select “SFIREG Meetings.”

2. By mail. Philip H. Gray, SFIREG Executive Secretary, P.O. Box 1249, Hardwick, VT 05843-1249.

III. Purpose of Meeting

Tentative Agenda:

1. Revising EPA guidance document for the Pesticide Management Plan rule.

2. Probabilistic risk assessment for ecological effects.

3. State regulation of aquatic use pesticides.

4. Up-date on Total Maximum Daily Load (TMDL) activities in California.

5. Report on certain herbicides in surface and ground water in the Midwest.

6. Topics for Pesticide Regulatory Education Program (PREP) course on water quality.

7. General program up-dates from the Office Pesticide Programs (OPP) and the Office of Enforcement and Compliance Assurance (OECA).

8. Other topics as appropriate.

List of Subjects

Environmental protection.

Dated: May 19, 2000.
Jay Ellenberger,
Acting Director, Field and External Affairs Division, Office of Pesticide Programs.

[FR Doc. 00-13314 Filed 5-25-00; 8:45 am]

BILLING CODE 6560-50-F